FEDERAL COMMUNICATIONS COMMISSION

[OMB 3060-0084]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before July 11, 2016. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0084.

Title: Ownership Report for Noncommercial Educational Broadcast Station, FCC Form 323-E.

Form Number: FCC Form 323-E.

Type of Review: Extension of a currently approved collection.

Respondents: Not-for-profit institutions.

Number of Respondents and Responses: 1,500 respondents; 1,500 responses.

Estimated Time per Response: One hour.

Frequency of Response: On occasion, biennially, and on renewal reporting requirements.

Total Annual Burden: 1,500 hours.

Total Annual Cost: $900,000.

Obligation to Respond: Required to obtain or retain benefits. The statutory authority is contained in sections 154(i), 308 and 310 of the Communications Act of 1934, as amended.

Nature and Extent of Confidentiality: There is no need for confidentiality with this collection of information.

Privacy Impact Assessment(s): No impact(s).

Needs and Uses: Each licensee/permittee of a noncommercial FM and TV broadcast station is required to file an Ownership Report for Noncommercial Educational Broadcast Station, FCC Form 323-E, within 30 days of the date of grant by the FCC of an application for an original construction permit. In addition, licensee must file FCC Form 323-E biennially on the anniversary of the application filing date for the station license renewal. Each licensee with a current, unmodified FCC Form 323-E on file with the Commission may electronically review its current Report, validate its accuracy, and be relieved of the obligation to file a new Biennial Ownership Report. The FCC 323-E must also be filed within 30 days of consummating authorized assignments or transfers of permits and licenses.

Federal Communications Commission.
Marlene H. Dortch,
Secretary. Office of the Secretary.

[FR Doc. 2016-11016 Filed 5-10-16; 8:45 am]

BILLING CODE 6712-01-P